ENVIRONMENTAL PROTECTION AGENCY

40 CFR Part 60

[AD-FRL-6919-1]

Standards of Performance for New Stationary Sources and Emission Guidelines for Existing Sources for Large Municipal Waste Combustors

AGENCY: Environmental Protection Agency (EPA).

ACTION: Notice of intent to amend final rules.

SUMMARY: Section 129 of the Clean Air Act (CAA) directs us to develop new source performance standards (NSPS) and emission guidelines (EG) for municipal waste combustors (MWC). The final NSPS and EG limit periods of startup, shutdown, or malfunction to 3 hours per occurrence. Recently, it has come to our attention that there are a few types of malfunction which require shutdown, but, because of the nature of the malfunction and ensuing safety concerns, require longer than 3 hours for shutdown of the MWC. This notice announces our intent to amend the NSPS and EG for large MWC to provide regulatory relief from this 3-hour limitation for shutdowns due to these types of malfunction.

ADDRESSES: Dockets No. A-90-45 and A-89-08 contain the supporting information for development of NSPS and EG for large MWC and are available for public inspection and copying between 8 a.m. and 5:30 p.m., Monday through Friday, at the Air and Radiation Docket and Information Center, U.S. Environmental Protection Agency, 401 M Street, SW, Washington, DC 20460, telephone (202) 260-7548, fax (202) 260-4000. These dockets are available at the above address in Room M-1500, Waterside Mall (ground floor). A reasonable fee may be charged for copying.

FOR FURTHER INFORMATION CONTACT: Mr. Fred Porter, Combustion Group, Emission Standards Division (MD-13), U.S. EPA, Research Triangle Park, North Carolina 27711, (919) 541-5251, electronic mail address: porter.fred@epa.gov.

SUPPLEMENTARY INFORMATION: Section 129 of the CAA requires us to develop NSPS and EG for several categories of solid waste incinerators, one of which is MWC. On December 19, 1995, we promulgated final NSPS and EG for large MWC (60 FR 65387). These NSPS and EG contain a provision requiring large MWC to comply with the standards (i.e., emission limits) at all times, except during periods of startup, shutdown, and malfunction. Periods of startup, shutdown, and malfunction, however, are limited to 3 hours per occurrence. If it takes longer than 3 hours to startup or shutdown, or if a malfunction continues for longer than 3 hours, a large MWC is required to comply with the standards during that period of startup, shutdown, or malfunction which exceeds 3 hours.

Recently, it has come to our attention that there are a few types of malfunction which require shutdown, but, because of the nature of the malfunction and the ensuing safety concerns, require longer than 3 hours to shutdown the MWC. For the most part, this does not present a problem; proper operation of the emission control systems permit the MWC to maintain compliance with the emission limits, with one exception. This exception is the emission limit for carbon monoxide (CO).

Operating experience has identified three types of malfunction which require shutdown, but which require in excess of 3 hours for shutdown, during which it is not possible to comply with the emission limit for CO. The first is waterwall boiler tube failure, the second is loss of a combustion air fan, and the third is combustion grate failure.

These three types of malfunction lead to increased CO emissions. However, attempting to shutdown an MWC rapidly in these situations can present a risk of explosion which, in the extreme, could result in serious injury or even death of plant personnel. To avoid this risk, more than 3 hours is needed to safely shutdown the MWC under these situations.

The purpose of today's notice is to announce that we intend to amend the NSPS and EG for large MWC to provide regulatory relief from compliance with the CO emission limit during these types of malfunction and shutdown. While we intend to proceed quickly with adopting such amendments, we believe it is appropriate to announce our intent in advance.

Dated: December 13, 2000.
Robert Perciasepe,
Assistant Administrator for Air and Radiation.

[FR Doc. 00-32237 Filed 12-15-00; 8:45 am]

BILLING CODE 6560-50-P